DEPARTMENT OF THE INTERIOR

Fish and Wildlife Service

Notice of Availability of a Final Recovery Plan for Six Mobile Basin Aquatic Snails

AGENCY: Fish and Wildlife Service, Interior.

ACTION: Notice of document availability.

SUMMARY: We, the Fish and Wildlife Service, announce the availability of the final recovery plan for six Mobile Basin aquatic snails. The six snails included in the recovery plan are: the endangered cylindrical lioplax (Lioplax cyclostomaformis), flat pebblesnail (Lepyriam showalteri), and plicate rocksnail (Leptoxis ampla); and the threatened painted rocksnail (Leptoxis taeniata), round rocksnail (Leptoxis ampla), and lacy elimia (Elimia crenatella). All are endemic to the Mobile River Basin (Basin) where they inhabit shoals, rapids and riffles of large streams and rivers above the Fall Line. All six species have disappeared from more than 90 percent of their historic ranges as a result of impoundment, channelization, mining, dredging, and pollution from point and non-point sources. The final recovery plan includes specific recovery objectives and criteria to be met in order to reclassify (downlist) the cylindrical lioplax, flat pebblesnail, and plicate rocksnail to threatened species and for the eventual delisting of all six species under the Endangered Species Act of 1973, as amended (Act).

ADDRESSES: You may obtain a copy of this recovery plan by contacting the Jackson Field Office, U.S. Fish and Wildlife Service, 6578 Dogwood View Parkway, Jackson, MS 39213 (telephone 601/965-4900), or by visiting our recovery plan Web site at http://endangered.fws.gov/recovery/index.html#plans.

FOR FURTHER INFORMATION CONTACT: Paul Hartfield (telephone 601/321-1125).

SUPPLEMENTARY INFORMATION:

Background

On October 28, 1998, (63 FR 57610), we listed six aquatic snails, in the Mobile River Basin, as threatened (painted rocksnail, round rocksnail, lacy elimia) or endangered (cylindrical lioplax, flat pebblesnail, plicate rocksnail) under the Act. These six snails are endemic to portions of the Mobile River Basin in central Alabama. The cylindrical lioplax, flat pebblesnail, and round rocksnail are found in the Cahaba River drainage; the lacy elimia and painted rocksnail are in the Coosa River drainage; and the plicate rocksnail is in the Black Warrior River drainage. These snails require rock, boulder, or cobble substrates and clean, unpolluted water and are found on shoals and riffles of large streams and rivers. Impoundment and water quality degradation have eliminated the six snails from 90 percent or more of their historic habitat. Known populations are restricted to small portions of stream drainages. These surviving populations are currently threatened by pollutants such as sediments and nutrients that wash into streams from the land surface.

Restoring an endangered or threatened animal or plant to the point where it is again a secure, self-sustaining member of its ecosystem is a primary goal of the endangered species program. To help guide the recovery effort, we are preparing recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide public notice and an opportunity for public review and comment during recovery plan development. A notice of availability of the technical agency draft recovery plan for six Mobile Basin aquatic snails was published in the Federal Register on January 18, 2005 (70 FR 2879). A 60-day comment period was opened with the notice, closing on March 21, 2005. We received comments from two interested parties. Comments and information submitted were considered in the preparation of this final plan and, where appropriate, incorporated.

The cylindrical lioplax, flat pebblesnail, and plicate rocksnail, will be considered for reclassification to threatened status when the following criteria are met:

1. The existing population has been shown to be stable or increasing over a period of 10 years (2 to 5 generations). This may be measured by numbers/area, catch per unit/effort, or other methods developed through population monitoring, and must be demonstrated through annual monitoring.

2. There are no apparent or immediate threats to the listed population (see Listing/Recovery Criteria, below).

3. A captive population has been established at an appropriate facility, and the species has been successfully propagated.

4. A minimum of two additional populations have been established (or discovered) within historic range.

The lacy elimia, round rocksnail, painted rocksnail, cylindrical lioplax, flat pebblesnail, and plicate rocksnail will be considered for delisting when:

1. A minimum of three natural or re-established populations have been shown to be persistent (i.e., stable or increasing) for a period of 10 years (2 to 5 generations).

2. There are no apparent or immediate threats to the populations (see Listing/Recovery Factor Criteria, below).

The objective of this final plan is to provide a framework for the recovery of these six aquatic snails so that protection under the Act is no longer necessary. As reclassification and recovery criteria are met, the status of these species will be reviewed and they will be considered for reclassification or removal from the Federal List of Endangered and Threatened Wildlife and Plants (50 CFR part 17).

Authority: The authority for this action is section 4(f) of the Endangered Species Act, 16 U.S.C. 1533 (f).

Dated: September 8, 2005.
Cynthia K. Dohner,
Acting Regional Director.

[FR Doc. E5-6759 Filed 12-1-05; 8:45 am]

BILLING CODE 4310-55-P